DEPARTMENT OF COMMERCE

International Trade Administration

Initiation of Antidumping and Countervailing Duty Administrative Reviews

AGENCY: Import Administration, International Trade Administration, Department of Commerce.

SUMMARY: The Department of Commerce (“the Department”) has received requests to conduct administrative reviews of various antidumping and countervailing duty orders and findings with April anniversary dates. In accordance with the Department's regulations, we are initiating those administrative reviews.

DATES: Effective Date: May 28, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with April anniversary dates.

Change to the Deadlines for No-Shipment Letters and Separate Rate Certifications

Effective with this Federal Register notice, the Department is changing the deadline for submission of No-Shipment Letters and Separate Rate Certifications from 30-days after initiation to 60-days after initiation, as indicated in the relevant sections of this Federal Register notice. The Department requires that a company under review, which currently has a separate rate, submit either a No-Shipment Letter or a Separate Rate Certification, as relevant to the company's situation, as described in the relevant sections of this Federal Register notice, below. If a company under review that currently has a separate rate fails to submit either a No-Shipment Letter, a Separate Rate Certification, or a Separate Rate Application (as appropriate) for this POR, the company will not have demonstrated its eligibility to retain its separate rate status and will be considered to be part of the China-wide entity for purposes of this administrative review. The Department's practice remains unchanged for companies that do not have a separate rate, i.e., a separate rate application is due 60-days after initiation.

Notice of No Sales

Under 19 CFR 351.213(d)(3), the Department may rescind a review where there are no exports, sales, or entries of subject merchandise during the respective period of review (“POR”) listed below. If a producer or exporter named in this initiation notice had no exports, sales, or entries during the POR, it must notify the Department within 60 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers From the People's Republic of China, 56 FR 20588 (May 6, 1991), as amplified by Final Determination of Sales at Less Than Fair Value: Silicon Carbide From the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Application, refer to the instructions contained in the application. Separate Rate Applications are due to the Department no later than 60 calendar days of publication of this Federal Register notice. The deadline and requirement for submitting a Separate Rate Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently completed segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate-rate status unless they respond to all parts of the questionnaire as mandatory respondents.

Initiation of Reviews:

In accordance with section 19 CFR 351.221(c)(1)(i), we are initiating administrative reviews of the following antidumping and countervailing duty orders and findings. We intend to issue the final results of these reviews not later than April 30, 2011.

| Period to be reviewed
Antidumping Duty Proceedings
Brazil: Certain Hot-Rolled Flat-Rolled Carbon Quality Steel Products,³ A-351-828 | 3/1/09-2/28/10
Usinas Siderurgicas de Minas Gerais, S.A. (Usiminas)
France: Sorbitol, A-427-001
Syral, S.A.S. | 4/1/09-3/31/10
India: 1-Hydroxyethylidene-1, 1-Diphosphonic Acid (HEDP), A-533-847 | 4/23/09-3/31/10
Aquapharm Chemicals Pvt., Ltd.
Russia: Magnesium Metal, A-821-819 | 4/1/09-3/31/10
PSC VSMPO-AVISMA Corporation
Solikamsk Magnesium Works
The People's Republic of China: Certain Activated Carbon,⁴ ⁵ A-570-904 | 4/1/09-3/31/10
AmeriAsia Advanced Activated Carbon Products Co., Ltd.
Anhui Handfull International Trading (Group) Co., Ltd.
Anhui Hengyuan Trade Co., Ltd.
Anyang Sino-Shon International Trading Co., Ltd.
Baoding Activated Carbon Factory
Beijing Broad Activated Carbon Co., Ltd.
Beijing Haijian Jiechang Environmental Protection Chemicals
Beijing Hibridge Trading Co., Ltd.
Beijing Pacific Activated Carbon Products Co., Ltd.
Benbu Jiutong Trade Co., Ltd.
Calgon Carbon (Tianjin) Co., Ltd.
Changji Hongke Activated Carbon Co., Ltd.
Chengde Jiayu Activated Carbon Factory
Cherishmet Incorporated
China National Building Materials and Equipment Import and Export Corp.
China National Nuclear General Company Ningxia Activated Carbon Factory
China Nuclear Ningxia Activated Carbon Plant
Da Neng Zheng Da Activated Carbon Co., Ltd.
Datong Carbon Corporation
Datong Changtai Activated Carbon Co., Ltd.
Datong City Zouyun County Activated Carbon Co., Ltd.
Datong Fenghua Activated Carbon
Datong Forward Activated Carbon Co., Ltd.
Datong Fuping Activated Carbon Co., Ltd.
Datong Guanghua Activated Carbon Co., Ltd.
Datong Hongtai Activated Carbon Co., Ltd.
Datong Huanqing Activated Carbon Co., Ltd.
Datong Huaxin Activated Carbon
Datong Huibao Active Carbon Co., Ltd.
Datong Huibao Activated Carbon Co., Ltd.
Datong Huiyuan Cooperative Activated Carbon Plant
Datong Juqiang Activated Carbon Co., Ltd.
Datong Kaneng Carbon Co. Ltd.
Datong Locomotive Coal & Chemicals Co., Ltd.
Datong Municipal Yunguang Activated Carbon Co., Ltd.
Datong Tianzhao Activated Carbon Co., Ltd.
DaTong Tri-Star & Power Carbon Plant
Datong Weidu Activated Carbon Co., Ltd.
Datong Xuanyang Activated Carbon Co. Ltd.
Datong Yunguang Chemicals Plant
Datong Zuoyun Biyun Activated Carbon Co., Ltd.
Datong Zuoyun Fu Ping Activated Carbon Co., Ltd.
Dezhou Jiayu Activated Carbon Factory
Dongguan Baofu Activated Carbon
Dongguan SYS Hitek Co., Ltd.
Dushanzi Chemical Factory
Fu Yuan Activated Carbon Co., Ltd.
Fujian Jianyang Carbon Plant
Fujian Nanping Yuanli Activated Carbon Co., Ltd.
Fujian Yuanli Active Carbon Co., Ltd.
Fuzhou Taking Chemical
Fuzhou Yihuan Carbon
Great Bright Industrial
Hangzhou Hengxing Activated Carbon
Hangzhou Hengxing Activated Carbon Co., Ltd.
Hangzhou Linan Tianbo Material (HSLATB)
Hangzhou Nature Technology
Hebei Foreign Trade and Advertising Corporation
Hebei Shenglun Import & Export Group Company
Hegongye Ninxia Activated Carbon Factory
Heilongjiang Provincial Hechang Import & Export Co., Ltd.
Hongke Activated Carbon Co., Ltd.
Huaibei Environment Protection Material Plant
Huairen Jinbei Chemical Co., Ltd.
Huairen Huanyi Purification Material Co., Ltd.
Huaiyushan Activated Carbon Group
Huatai Activated Carbon
Huzhou Zhonglin Activated Carbon
Inner Mongolia Taixi Coal Chemical Industry Limited Company
Itigi Corp. Ltd.
J&D Activated Carbon Filter Co., Ltd.
Jacobi Carbons AB
Jiangle County Xinhua Activated Carbon Co., Ltd.
Jiangsu Taixing Yixin Activated Carbon Technology Co., Ltd.
Jiangxi Hansom Import Export Co.
Jiangxi Huaiyushan Activated Carbon
Jiangxi Huaiyushan Activated Carbon Group Co.
Jiangxi Huaiyushan Suntar Active Carbon Co., Ltd.
Jiangxi Jinma Carbon
Jianou Zhixing Activated Carbon
Jiaocheng Xinxin Purification Material Co., Ltd.
Jilin Bright Future Chemicals Company, Ltd.
Jilin Province Bright Future Industry and Commerce Co., Ltd.
Jing Mao (Dongguan) Activated Carbon Co., Ltd.
Kaihua Xingda Chemical Co., Ltd.
Kemflo (Nanjing) Environmental Tech
Keyun Shipping (Tianjin) Agency Co., Ltd.
Kunshan Actview Carbon Technology Co., Ltd.
Langfang Winfield Filtration Co.
Link Link Shipping Limited
Longyan Wanan Activated Carbon
Mindong Lianyi Group
Nanjing Mulinsen Charcoal
Nantong Ameriasia Advanced Activated Carbon Product Co., Ltd.
Ningxia Baota Active Carbon Plant
Ningxia Baota Activated Carbon Co., Ltd.
Ningxia Blue-White-Black Activated Carbon (BWB)
Ningxia Fengyuan Activated Carbon Co., Ltd.
Ningxia Guanghua A/C Co., Ltd.
Ningxia Guanghua Activated Carbon Co., Ltd.
Ningxia Guanghua Chemical Activated Carbon Co., Ltd.
Ningxia Guanghua Cherishmet Activated Carbon Co., Ltd.
Ningxia Haoqing Activated Carbon Co., Ltd.
Ningxia Henghui Activated Carbon
Ningxia Honghua Carbon Industrial Corporation
Ningxia Huahui Activated Carbon Co., Ltd.
Ningxia Huinong Xingsheng Activated Carbon Co., Ltd.
Ningxia Jirui Activated Carbon
Ningxia Lingzhou Foreign Trade Co., Ltd.
Ningxia Luyuangheng Activated Carbon Co., Ltd.
Ningxia Mineral & Chemical Limited
Ningxia Pingluo County Yaofu Activated Carbon Plant
Ningxia Pingluo County Yaofu Activated Carbon Factory
Ningxia Pingluo Xuanzhong Activated Carbon Co., Ltd.
Ningxia Pingluo Yaofu Activated Carbon Factory
Ningxia Taixi Activated Carbon
Ningxia Tianfu Activated Carbon Co., Ltd.
Ningxia Tongfu Coking Co., Ltd.
Ningxia Weining Active Carbon Co., Ltd.
Ningxia Xingsheng Coal and Active Carbon Co., Ltd.
Ningxia Xingsheng Coke and Activated Carbon Co., Ltd.
Ningxia Yinchuan Lanqiya Activated Carbon Co., Ltd.
Ningxia Yirong Alloy Iron Co., Ltd.
Ningxia Zhengyuan Activated
Nuclear Ningxia Activated Carbon Co., Ltd.
OEC Logistic Qingdao Co., Ltd.
Panshan Import and Export Corporation
Pingluo Xuanzhong Activated Carbon Co., Ltd.
Pingluo Yu Yang Activated Carbon Co., Ltd.
Shanghai Activated Carbon Co. Ltd.
Shanghai Coking and Chemical Corporation
Shanghai Goldenbridge International
Shanghai Jiayu International Trading (Dezhou Jiayu and Chengde Jiayu)
Shanghai Jinhu Activated Carbon (Xingan Shenxin and Jiangle Xinhua)
Shanghai Light Industry and Textile Import & Export Co., Ltd.
Shanghai Mebao Activated Carbon
Shanhai Xingchang Activated Carbon
Shanxi Blue Sky Purification Material Co., Ltd.
Shanxi Carbon Industry Co., Ltd.
Shanxi Dapu International Trade Co., Ltd.
Shanxi DMD Corporation
Shanxi Industry Technology Trading Co., Ltd.
Shanxi Newtime Co., Ltd.
Shanxi Qixian Foreign Trade Corporation
Shanxi Qixian Hongkai Active Carbon Goods
Shanxi Sincere Industrial Co., Ltd.
Shanxi Supply and Marketing Cooperative
Shanxi Tianli Ruihai Enterprise Co.
Shanxi Xiaoyi Huanyu Chemicals Co., Ltd.
Shanxi Xinhua Activated Carbon Co., Ltd.
Shanxi Xinhua Chemical Co., Ltd. (formerly Shanxi Xinhua Chemical Factory)
Shanxi Xinhua Protective Equipment
Shanxi Xinshidai Import Export Co., Ltd.
Shanxi Xuanzhong Chemical Industry Co., Ltd.
Shanxi Zuoyun Yunpeng Coal Chemistry
Shenzhen Sihaiweilong Technology Co.
Sincere Carbon Industrial Co., Ltd.
Sinoacarbon International Trading Co., Ltd.
Taining Jinhu Carbon
Tangshan Solid Carbon Co., Ltd.
Tianchang (Tianjin) Activated Carbon
Tianjin Century Promote International Trade Co., Ltd.
Tianjin Jacobi International Trading Co. Ltd.
Tianjin Maijin Industries Co., Ltd.
Taiyuan Hengxinda Trade Co., Ltd.
Tonghua Bright Future Activated Carbon Plant
Tonghua Xinpeng Activated Carbon Factory
Triple Eagle Container Line
Uniclear New-Material Co., Ltd.
United Manufacturing International (Beijing) Ltd.
Valqua Seal Products (Shanghai) Co.
VitaPac (HK) Industrial Ltd.
Wellink Chemical Industry
Xi Li Activated Carbon Co., Ltd.
Xi'an Shuntong International Trade & Industrials Co., Ltd.
Xiamen All Carbon Corporation
Xingan County Shenxin Activated Carbon Factory
Xinhua Chemical Company Ltd.
Xuanzhong Chemical Industry
Yangyuan Hengchang Active Carbon
Yicheng Logistics
Yinchuan Lanqiya Activated Carbon Co., Ltd.
Zhejiang Quizhou Zhongsen Carbon
Zhejiang Xingda Activated Carbon Co., Ltd.
Zhejiang Yun He Tang Co., Ltd.
Zhuxi Activated Carbon
Zuoyun Bright Future Activated Carbon Plant
The People's Republic of China: Certain Steel Threaded Rod,⁶ A-570-932 | 10/8/08-3/31/10
Advanced Hardware Company
Anhui Ningguo Zhongding Sealing Co. Ltd.
Autocraft Industrial (Shanghai) Ltd.
Beijing Peace Seasky International
Billion Land Ltd.
Century Distribution Systems
Certified Products International Inc.
China Jiangsu International Economic Technical Cooperation Corporation
Dalian Americh International Trading Co., Ltd.
Dalian Fortune Machinery Co., Ltd.
Dalian Harada Industry Co., Ltd.
EC International (Nantong) Co. Ltd.
Ever Industries Co.
Fastwell Industry Co. Ltd.
Gem-Year Industrial Co., Ltd.
Haining Light Industry Trade Co. Ltd.
Haiyan County No. 1 Fasteners Factory (Hu-Hang Company)
Haiyan Dayu Fasteners Co., Ltd.
Haiyan Feihua Fasteners Co. Ltd.
Haiyan Haiyu Hardware Co. Ltd.
Haiyan Julong Standard Part Co., Ltd.
Haiyan Lianxiang Hardware Products
Haiyan Sanhuan Import & Export Co.
Haiyan Xiyue Electrical Appliances Co., Ltd.
Haiyan Yida Fastener Co. Ltd.
Handsun Industry General Co.
Hangshou Daton Wind Power
Hangshou Huayan Imp. and Exp. Co. Ltd.
Hangzhou Everbright Imp & Exp Co. Ltd.
Hangzhou Grand Imp. & Exp. Co., Ltd.
Hangzhou Robinson Trading Co. Ltd.
HD Supply Shanghai Distribution Center
Hebei Richylin Trading Co Ltd.
Honghua International Co. Ltd.
Jiangsu Changzhou International
Jiangsu Soho International Group Corp.
Jiangsu Yanfei Special Steel Products
Jiangxi Yuexin Standard Part Co. Ltd.
Jiashan Lisan Metal Products Co. Ltd.
Jiashan Zhongsheng Metal Products Co., Ltd.
Jiaxing Brother Fastener Co., Ltd., IFI & Morgan Ltd. and RMB Fasteners Ltd.
Jiaxing Pacific Trading Co. Ltd.
Jiaxing Tsr Hardware Inc.
Jiaxing Wonper Imp. & Exp. Co. Ltd.
Jiaxing Xinyue Standard Part Co., Ltd.
JS Fasteners Co. Ltd.
Jun Valve Junshan Co. Ltd.
Kewell Products Corporation
Lanba Fasteners Co. Ltd.
Nantong Harlan Machinery Co. Ltd.
Ningbiao Bolts & Nuts Manufacturing Co.
Ningbo ABC Fasteners Co. Ltd.
Ningbo Beilun Fastening Co. Ltd.
Ningbo Beilun Longsheng
Ningbo Daxie Chuofeng Industrial Development Co., Ltd.
Ningbo Etdz Holding Ltd.
Ningbo Fengya Imp. & Exp. Co. Ltd.
Ningbo Fourway Co. Ltd.
Ningbo Haishu Wit Imp. & Exp. Co. Ltd.
Ningbo Haobo Commerce Co. Ltd.
Ningbo Jiansheng Metal Products Co.
Ningbo Shareway Import and Export Co. Ltd.
Ningbo Weiye Co.
Ningbo Xinyang Weiye
Ningbo Yinzhou Foreign Trade Co. Ltd.
Ningbo Yonggang Fastener Co. Ltd.
Ningbo Zhenghai Yongding Fastener Co.
Ningbo Zhengyu Fasteners Co., Ltd.
Ningbo Zhongbin Fastener Mfg. Co. Ltd.
Ningbo Zhongjiang High Strength
Ningbo Zhongjiang Petroleum Pipes & Machinery Co. Ltd.
Orient International Enterprise Ltd.
Penglai City Bohai Hardware Tool Co. Ltd.
Pennengineering Automotive Fastener
Pinghu City Zhapu Screw Cap
Qingdao H.R. International Trading Co.
Qingdao Hengfeng Development Trade
Qingdao Huaqing Imp. and Exp. Co. Ltd.
Qingdao Morning Bright Trading
Qingdao Uni-trend Int'l Ltd.
Roberts Co.
R-union Enterprise Co. Ltd.
Shaanxi Shcceed Trading Co. Ltd.
Shanghai Foreign Trade Enterprises Pudong Co. Ltd.
Shanghai Huiyi International Trade
Shanghai Jiading Foreign Trade Co. Ltd.
Shanghai Overseas International Trading Co. Ltd.
Shanghai Prime Machinery Co. Ltd.
Shanghai Recky International Trading Co., Ltd.
Shanghai Shangdian Washer Co.
Shanghai Shenguang High Strength Bolts Co. Ltd.
Shanghai Sunrise International Co.
Shanghai Tianying Metal Parts Co. Ltd.
Shanghai Wisechain Fastener Ltd.
Shanghai Xianglong International Trading Co., Ltd. (Wangzhai Group)
Shanghai Xiangrong International Trading Co., Ltd.
Shenzhen Texinlong Trading Co.
Shenzhen Xiguan Trading Ltd.
Suntec Industries Co., Ltd.
Suzhou Textile Silk Co. Ltd.
Synercomp China Co. Ltd.
T and C Fastener Co. Ltd.
T and L Industry Co. Ltd.
T&S Technology LLC
Tong Ming Enterprise
Tri-Star Trading Co. (Hong Kong)
Unimax International Ltd.
Wujiang Foreign Trade Corporation
Wuxi Zontai International
Yancheng Sanwei Imp. & Exp. Co. Ltd.
Yi Chi Hsiung Ind. Corp.
Yixunda Industrial Products Supply
Yueyun Imp & Exp Co. Ltd.
Yuyao Nanshan Development Co. Ltd.
Zhapu Creative Standard Parts Material Co., Ltd.
Zhejiang Guorui Industry Co., Ltd.
Zhejiang Hailiang Co. Ltd.
Zhejiang Huamao International Co. Ltd.
Zhejiang Laibao Hardware Co. Ltd.
Zhejiang Machinery & Equipment Co. Ltd.
Zhejiang Minmetals Sanhe Import & Export Co. Ltd.
Zhejiang Morgan Brother
Zhejiang New Oriental Fastener Co., Ltd.
Zhejiang Peace Industry and Trading
Zhejiang Xingxing Optoelectron
Zhejiang Zhenglian Corp.
The People's Republic of China: Frontseating Service Valves,⁷ A-570-933 | 10/22/08-3/31/10
AMTEK/CAG Inc.
Anhui Technology Imp Exp Co., Ltd.
Anhui Yingliu Casting Industrial Co.
Anhui Yingliu Electromechanical Co.
Ningbo Weitao Electrical Appliance Co., Ltd.
Atico International (Asia) Ltd.
Beijing KJL Int'l Cargo Agent Co., Ltd.
Bergstrom China Group
Bowen Casting Co Ltd
Broad-Ocean Motor (Hong Kong) Co., Ltd.
C.H. Robinson Worldwide Logistics (Dalian) Co., Ltd.
Catic Fujian Co., Ltd.
Ceiec International Electronics Service Company
Changzhou Ranco Reversing Valve Co., Ltd.
Changzhou Regal-Beloit Motor Co., Ltd.
Chian International Electronics A
China National Building Materials & Equipment Imp & Exp Corp
Chongqing Jianshe Automobile
Zhonghuan Mach. Factory
CPI Motor Co.
Dongyou International Co., Ltd.
Egelhof Regelungstechnik (Suzhou)
Fujitsui General (Shanghai) Co., Ltd.
Gamela Enterprise Co Ltd
GD Midea Air-Conditioning Equipment Co Ltd.
Global PMX Co. Ltd
Globe Express Services-NGB
Grace Meng
Guangdong Sanyo Air Conditioner Co., Ltd.
Guangzhou Lai-Long Co, Ltd
Hang Ji Industries International Co
Hangzhou Chunjiang Valve Corporation
Headwin Logistics Co., Ltd.
Higher Hardware Co., Limited
Jiangsu Wei Xi Group Co.
Jiashan Sinhai Precision Casting Co., Ltd.
Leyuan Kuo Enterprise Co Ltd
LHMW Investment Corporation
Long Quan Heng Feng Auto Air Accessories Co., Ltd.
Long Term Elec Co. Ltd
Nantong Bochuang Fine Ceramic Co. Ltd.
Netmotor (Mfg.) Ltd.
New Centurion Import Export Ltd.
Ningbo Chindr Industry Co., Ltd.
Ningbo Gime Bicycle Co. Ltd.
Ningbo IDC Int'l Trading Co., Ltd
Ningbo Kaiyuan Shipping Co., Ltd.
Ningbo ND Imp. Exp Co., Ltd.
Ningbo Riyue Refri. Equip. Co., Ltd.
Ningbo Silvertie Foreign Economic Trading Corp.
Ningbo Waywell International Co., Ltd.
Ningbo Yinzhou Along Imp Exp Co.
On Time Taiwan Ltd.
Orient Refrigeration Group Ltd.
Pan Pacific Express Corp.
Promac Intl Corp. No 35
Shanghai Haitai Precision Machine Co., Ltd.
Shanghai Highly Group Trading Co., Ltd.
Shanghai Huan Long Im Ex Co. Ltd.
Shanghai Jing HE Worked Trade Ltd.
Shanghai Research Institute OF
Shanghai Sitico International Trading Co.
Shanghai Velle Automobile Air
Shenyang Henyi Enterprise Co., Ltd.
Shenzhen Heg Import and Export Co., ltd.
Shenzhen Pacific-Net Logistics, Ltd.
Summit International Logistics, Ltd.
Suzhou KF Valve Co., Ltd.
Suzhou Samsung Electronic Co., Ltd.
Taizhou Boxin Imp Exp Co., Ltd.
Taizhou Chen's Copper Co., Ltd.
Taizhou DBW Metal Pipe Fittings Co., Ltd.
Traffic Tech International Freight
Tyconalloy Ind (Shenzhen) Co., Ltd.
Uniauto Co., Ltd.
Uniauto International Limited
Uniauto International Ltd.
Uniauto Intl Ltd
WDI (Xiamen) Technology Inc.
Weiss-Rohlig China Co., Ltd.
Wudi County Import and Export Corp.
Xiamen Chengeng Auto Parts Supplier Co., Ltd.
Yancheng H&M Pressure Valve
York International (Northern Asia) Ltd.
Yuyao Dianbo Machinery Co., Ltd.
Yuyao Shule Air Conditioning Equipment Co., Ltd.
Yuyao Smart Mold Plastic Co Ltd
Zhejiang Delisai Air Conditioner Co., Ltd.
Zhejiang Dunan Hetian Metal Co., Ltd.
Zhejiang Friendship Valve Co., Ltd.
Zhejiang Pinghu Foreign Trade
Zhejiang Sanhua Climate and Appliance Controls Group Co., Ltd.
Zhejiang Sanhua Co., Ltd.
Zhejiang Sanrong Refrigeration
Zhejiang Tongxiang
Zhejiang Yili Automobile Air Condition Co., Ltd.
Zhejiang Yilida Ventilator Co., Ltd.
The People's Republic of China: 1-Hydroxyethylidene-1, 1-Diphosphonic Acid ⁸ (HEDP), A-570-934 | 4/23/09-3/31/10
Changzhou Wujin Fine Chemical Factory Co., Ltd.
Jiangsu Jianghai Chemical Group Co., Ltd.
The People's Republic of China: Magnesium Metal,⁹ A-570-896 | 4/1/09-3/31/10
Tianjin Magnesium International Co., Ltd.
The People's Republic of China: Non-Malleable Cast Iron Pipe Fittings,¹⁰ A-570-875 | 4/1/09-3/31/10
NEP Tianjin Machinery Company
The People's Republic of China: Uncovered Innersprings Units,¹¹ A-570-928 | 8/6/08-1/31/10

³ In the initiation notice that published on April 27, 2010 (75 FR 22108), the full case name for the above referenced case was not listed. The correct case name is listed above. Also in the same notice, the company Usinas Siderurgicas de Minas Gerais, S.A. (Usiminas) was incorrectly initiated as Usiminas Siderurgicas de Minas Gerais, S.A. (Usiminas). The correct spelling of the company name is listed above.

⁴ If one of the above named companies does not qualify for a separate rate, all other exporters of Certain Activated Carbon from the People's Republic of China (“PRC”) who have not qualified for a separate rate are deemed to be covered by this review as part of the single PRC entity of which the named exporters are a part.

⁵ Petitioners, Calgon Carbon Corporation and Norit Americans Inc., also requested a review of fifteen additional companies, but were unable to provide addresses for these companies. We are still considering the appropriateness of initiating a review on these fifteen companies. Therefore, at this time, we are not initiating a review with respect to the following companies: Actview Carbon Technology Co., Ltd.; Alashan Yongtai Activated Carbon Co., Ltd.; Beijing Huapeng Environment Protection Materials; Datong Kangda Activated Carbon Factory; Datong Runmei Activated Carbon Factory; Fangyuan Carbonization Co., Ltd.; Huaxin Active Carbon Plant; Jilin Goodwill Activated Carbon Plant; Kaihua Xinghua Chemical Plant; Xingtai Coal Chemical Co., Ltd.; Xinyuan Carbon; Yinyuan Carbon; Yuanguang Activated Carbon Co., Ltd.; YunGuan Chemical Factory; and, Yuyang Activated Carbon Co., Ltd.

⁶ If one of the above named companies does not qualify for a separate rate, all other exporters of Certain Steel Threaded Rod from the PRC who have not qualified for a separate rate are deemed to be covered by this review as part of the single PRC entity of which the named exporters are a part.

⁷ If one of the above named companies does not qualify for a separate rate, all other exporters of Fronseating Service Valves from the PRC who have not qualified for a separate rate are deemed to be covered by this review as part of the single PRC entity of which the named exporters are a part.

⁸ If one of the above named companies does not qualify for a separate rate, all other exporters of 1-Hydroxyethylidene-1, 1-Diphosphonic Acid (HEDP) from the PRC who have not qualified for a separate rate are deemed to be covered by this review as part of the single PRC entity of which the named exporters are a part.

⁹ If the above named company does not qualify for a separate rate, all other exporters of Magnesium Metal from the People's Republic of China who have not qualified for a separate rate are deemed to be covered by this review as part of the single PRC entity of which the named exporters are a part.

¹⁰ If the above named company does not qualify for a separate rate, all other exporters of non-malleable cast iron pipe fittings from the People's Republic of China who have not qualified for a separate rate are deemed to be covered by this review as part of the single PRC entity of which the named exporters are a part.

¹¹ In the initiation notice that published on March 30, 2010 (75 FR 15679), the review period for the above referenced case was incorrect. The period listed above is the correct period of review for this case.

Countervailing Duty Proceeding

None.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v.United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: May 25, 2010.
John M. Andersen,
Acting Deputy Assistant Secretary for Antidumping and Countervailing Duty Operations.

[FR Doc. 2010-13049 Filed 5-27-10; 8:45 am]

BILLING CODE 3510-DS-P